DEPARTMENT OF EDUCATION

[Docket No.: ED-2025-SCC-0218]

Agency Information Collection Activities; Comment Request; 2026-2027 Free Application for Federal Student Aid (FAFSA)

AGENCY: Federal Student Aid, Department of Education (ED).

ACTION: Notice.

SUMMARY: In accordance with the Paperwork Reduction Act of 1995, the Department is requesting the Office of Management and Budget (OMB) to conduct an emergency review of a revision of an approved information collection request (ICR).

DATES: The Department is requesting emergency processing and OMB approval for a revision of this information collection no later than August 3, 2025. The Department is revising the collection to incorporate updates which align with the One Big Beautiful Bill Act (OBBBA) which was signed into law on July 4, 2025. The Department will request public comments as part of a full clearance process following the emergency approval of this collection.

FOR FURTHER INFORMATION CONTACT: For specific questions related to collection activities, please contact Carolyn Rose, (202) 453-5967.

Title of Collection: 2026-2027 Free Application for Federal Student Aid (FAFSA).

OMB Control Number: 1845-0001.

Type of Review: An emergency revision of a currently approved ICR.

Respondents/Affected Public: Individuals and Households.

Total Estimated Number of Annual Responses: 31,791,647.

Total Estimated Number of Annual Burden Hours: 20,412,753.

Abstract: Section 483 of the Higher Education Act of 1965, as amended (HEA), mandates that the Secretary of Education “. . . shall produce, distribute, and process free of charge common financial reporting forms as described in this subsection to be used for application and reapplication to determine the need and eligibility of a student for financial assistance . . .”.

The determination of need and eligibility are for the following Title IV, HEA, federal student financial assistance programs: the Federal Pell Grant Program; the Campus-Based programs (Federal Supplemental Educational Opportunity Grant (FSEOG) and Federal Work-Study (FWS)); the William D. Ford Federal Direct Loan (Direct Loan) Program; the Teacher Education Assistance for College and Higher Education (TEACH) Grant; and the Children of Fallen Heroes Scholarship.

Federal Student Aid (FSA), an office of the U.S. Department of Education (the Department), subsequently developed an application process to collect and process the data necessary to determine a student's eligibility to receive Title IV, HEA program assistance. The application process involves an applicant's submission of the Free Application for Federal Student Aid (FAFSA). After submission and processing of the FAFSA form, an applicant receives a FAFSA Submission Summary, which is a summary of the processed data they submitted on the FAFSA form. The applicant reviews the summary, and, if necessary, will make corrections or updates to their submitted FAFSA data. Institutions of higher education listed by the applicant on the FAFSA form also receive a summary of processed data submitted on the FAFSA form, which is called the Institutional Student Information Record (ISIR).

In addition to the calculation of financial need for the various Title IV programs, the FAFSA form also collects data that allows for a determination of an applicant's eligibility for state and institutional financial aid programs. If these data elements are not collected, the Department and institutions of higher education will be unable to make determinations of financial need and award any Title IV, HEA program assistance, as mandated by the HEA. Many states would also be greatly hindered in their calculation of state aid to applicants.

Additional Information: The OBBBA was signed into law on July 4, 2025. The Act made changes to the FAFSA for the 2026-27 award year. The Department would not have been able to make these changes prior to the enactment of the OBBBA. Because of this, obtaining full OMB clearance to use the most accurate version of the FAFSA prior to FAFSA beta testing and FAFSA launch would not be possible.

The FAFSA form is scheduled to be launched by October 1, 2025, for the 2026-2027 award year. Without emergency review of an updated FAFSA form, beta testing and the launch of the FAFSA would be delayed. This means that students would not be able to complete a FAFSA form to determine eligibility for federal student aid. Institutions of higher education would not be able to package aid for their students until their students' FAFSA forms have been processed. These delays would cause the FAFSA form to not be available to the public on time. Applicants and schools rely on the on-time launch of the FAFSA form each year. Delays could impact institutional enrollment projections, student enrollment, and student decisions to apply for federal student aid.

Ross Santy,
Chief Data Officer, Office of Planning, Evaluation and Policy Development.

[FR Doc. 2025-14331 Filed 7-28-25; 8:45 am]

BILLING CODE 4000-01-P